ENVIRONMENTAL PROTECTION AGENCY

[ER-FRL-9058-7]

Environmental Impact Statements; Notice of Availability

Responsible Agency: Office of Federal Activities, General Information 202-564-5632 or https://www.epa.gov/nepa.

Weekly receipt of Environmental Impact Statements (EIS)

Filed September 27, 2021 10 a.m. EST Through October 4, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210150, Final, USACE, CA, Port of Long Beach Deep Draft Navigation Feasibility Study, Review Period Ends: 11/08/2021, Contact: Larry Smith 213-452-3846.

Amended Notice

EIS No. 20210108, Draft, NRC, SC, License Renewal of the Columbia Fuel Fabrication Facility in Richland County, South Carolina, Comment Period Ends: 11/19/2021, Contact: Diana Diaz-Toro 301-415-0930.

Revision to FR Notice Published 08/06/2021; NRC has reopened the comment period to end on 11/19/2021.

Dated: October 4, 2021.
Cindy S. Barger,
Director, NEPA Compliance Division, Office of Federal Activities.

[FR Doc. 2021-22015 Filed 10-7-21; 8:45 am]

BILLING CODE 6560-50-P